DEPARTMENT OF HEALTH AND HUMAN SERVICES

Administration for Children and Families

Proposed Information Collection Activity; Comment Request

Title: Parents and Children Together—Discussion Guide.

OMB No.: New Collection.

Description: The Administration for Children and Families (ACE), U.S. Department of Health and Human Services is proposing an information collection activity as part of an evaluation of healthy marriage and responsible fatherhood grant programs. The evaluation study title is: Parents and Children Together (PACT). This phase of information collection will involve discussion of a range of topics with key informants in grantee and partner organizations such as their organizational structure, program services, populations served and specific approaches for the grant programs.

The information will be used by ACF for the identification and selection of grantee programs to be included in the evaluation.

Respondents: Semi-structured discussions will be held with administrators and managers of healthy marriage and responsible fatherhood grants and, where appropriate, administrators and managers of key partner agencies.

Annual Burden Estimates
Instrument | Annual number of respondents | Number of responses per respondent | Average burden hours per response | Total annual burden hours
Discussion Guide | 150 | 1 | 1 | 150

Estimated Total Annual Burden Hours: 150.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade, SW., Washington, DC 20447, Attn: OPRE Reports Clearance Officer. E-mail address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: August 8, 2011.
Steven M. Hanmer,
Reports Clearance Officer.

[FR Doc. 2011-20495 Filed 8-11-11; 8:45 am]

BILLING CODE 4184-09-M